FEDERAL MARITIME COMMISSION

Ocean Transportation Intermediary License; Rescission of Order of Revocation

Notice is hereby given that the Order revoking the following licenses are being rescinded by the Federal Maritime Commission pursuant to section 19 of the Shipping Act of 1984 (46 U.S.C. Chapter 409) and the regulations of the Commission pertaining to the licensing of Ocean Transportation Intermediaries, 46 CFR part 515.

License Number: 018977N.

Name: Alas Cargo LLC.

Address: 228-236 Star of India Lane, Main Street, Carson, CA 90746.

Order Published: FR: 3/23/11 (Volume 76, No. 56, Pg. 16422).

License Number: 021901F.

Name: Magusa Logistics, Corp.

Address: 11222 NW. 53rd Lane, Doral, FL 33178.

Order Published: FR: 3/23/11 (Volume 76, No. 56, Pg. 16422).

Sandra L. Kusumoto,
Director, Bureau of Certification and Licensing.

[FR Doc. 2011-10935 Filed 5-4-11; 8:45 am]

BILLING CODE 6730-01-P